ENVIRONMENTAL PROTECTION AGENCY

[EPA-HQ-OPP-2009-0788; FRL-8796-2]

Pesticide Products; Registration Applications

AGENCY: Environmental Protection Agency (EPA).

ACTION: Notice.

SUMMARY: This notice announces receipt of applications to register pesticide products containing new active ingredients not included in any currently registered products pursuant to the provisions of section 3(c)(4) of the Federal Insecticide, Fungicide, and Rodenticide Act (FIFRA), as amended.

DATES: Comments must be received on or before February 26, 2010.

ADDRESSES: Submit your comments, identified by the docket identification (ID) number and the file symbol for the pesticide of interest as shown in the registration application summary, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility’s normal hours of operation (8:30 a.m. to 4 p.m., Monday through Friday, excluding legal holidays). Special arrangements should be made for deliveries of boxed information. The Docket Facility telephone number is (703) 305-5805.

Instructions: Direct your comments to the docket ID number specified for the pesticide of interest as shown in the registration application summaries. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: A contact person is listed at the end of each registration application summary and may be contacted by mail, telephone or email. The mailing address for each contact person listed is: Registration Division (7505P), Office of Pesticide Programs, Environmental Protection Agency, 1200 Pennsylvania Ave., NW., Washington, DC 20460-0001.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number). If you are commenting in a docket that addresses multiple products, please indicate to which file symbol(s) your comment applies.

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Registration Applications

EPA received applications as follows to register pesticide products containing active ingredients not included in any previously registered products pursuant to the provision of section 3(c)(4) of FIFRA. Notice of receipt of these applications does not imply a decision by the Agency on the applications.

1. File Symbol: 264-RRNL. Docket Number: EPA-HQ-OPP-2009-0636. Applicant: Bayer CropScience, LP, P.O. Box 12014, 2 T.W. Alexander Drive, Research Triangle Park, NC 27709. Product name: Indaziflam 500 SC Herbicide. Active ingredient: Herbicide with Indaziflam at 45.05%. Proposed use: Pre-emergent control of annual grasses and broadleaf weeds in citrus fruits, stone fruits, pome fruits, grapes, tree nuts, pistachios, olives, and also for sugarcane grown in and imported from Brazil. Contact: Bethany Benbow, (703) 347-8072, benbow.bethany@epa.gov

2. File Symbol: 264-RRNA. Docket Number: EPA-HQ-OPP-2009-0636. Applicant: Bayer CropScience, LP, P.O. Box 12014, 2 T.W. Alexander Drive, Research Triangle Park, NC 27709. Product name: Indaziflam 200 SC Herbicide. Active ingredient: Herbicide with Indaziflam at 19.05%. Proposed use: Preemergent control of annual grasses and broadleaf weeds in citrus fruit, stone fruit, pome fruit, grapes, tree nuts, pistachios, and olives. Contact: Bethany Benbow, (703) 347-8072, benbow.bethany@epa.gov.

3. File Symbol: 352-TIE. Docket Number: EPA-HQ-OPP-2009-0789. Applicant: E. I. du Pont de Nemours and Company, DuPont Crop Protection, Stine-Haskell Research Center, P.O. Box 30, Newark, DE 19714. Product name: DPX-MAT28 Technical Herbicide. Active ingredient: Herbicide with Aminocyclopyrachlor at 89.3%. Proposed use: For formulation into an end-use herbicide for use in terrestrial non-crop areas and outdoor domestic landscape turf grass. Contact: Mindy Ondish, (703) 605-0723, ondish.mindy@epa.gov.

4. File Symbol: 352-TIG. Docket Number: EPA-HQ-OPP-2009-0789. Applicant: E. I. du Pont de Nemours and Company, DuPont Crop Protection, Stine-Haskell Research Center, P.O. Box 30, Newark, DE 19714. Product name: DPX-KJM44 Technical Herbicide. Active ingredient: Herbicide with Aminocyclopyrachlor methyl at 95.6%. Proposed use: For formulation into an end-use herbicide for use in terrestrial non-crop areas and outdoor domestic landscape turf grass. Contact: Mindy Ondish, (703) 605-723, ondish.mindy@epa.gov.

5. File Symbol: 352-TIU. Docket Number: EPA-HQ-OPP-2009-0789. Applicant: E. I. du Pont de Nemours and Company, DuPont Crop Protection, Stine-Haskell Research Center, P.O. Box 30, Newark, DE 19714. Product name: DPX-KJM44 80 MUP Herbicide. Active ingredient: Herbicide with Aminocyclopyrachlor methyl at 80.0%. Proposed use: For formulation into an end-use herbicide for use in terrestrial non-crop areas and outdoor domestic landscape turf grass. Contact: Mindy Ondish, (703) 605-0723, ondish.mindy@epa.gov.

6. File Symbol: 352-TIL. Docket Number: EPA-HQ-OPP-2009-0789. Applicant: E. I. du Pont de Nemours and Company, 1007 Market Street, Wilmington, DE 19898. Product name: DPX-KJM44 80XP Herbicide. Active ingredient: Herbicide with Aminocyclopyrachlor methyl at 80.0%. Proposed use: Weed control of broadleaf weeds and woody plants in terrestrial non-crop areas and unimproved turf sites. Contact: Mindy Ondish, (703) 605-0723, ondish.mindy@epa.gov.

7. File Symbol: 352-TIA. Docket Number: EPA-HQ-OPP-2009-0789. Applicant: E. I. du Pont de Nemours and Company, DuPont Crop Protection, Stine-Haskell Research Center, P.O. Box 30, Newark, DE 19714. Product name: DPX-MAT28 240SL Herbicide. Active ingredient: Herbicide with Aminocyclopyrachlor, potassium salt at 24.0%. Proposed use: Weed control of broadleaf weeds and woody plants in terrestrial non-crop areas and unimproved turf sites. Contact: Mindy Ondish, (703) 605-0723, ondish.mindy@epa.gov.

8. File Symbol: 352-TIT. Docket Number: EPA-HQ-OPP-2009-0789. Applicant: E. I. du Pont de Nemours and Company, DuPont Crop Protection, Stine-Haskell Research Center, P.O. Box 30, Newark, DE 19714. Product name: DPX-MAT28 50SG Herbicide. Active ingredient: Herbicide with Aminocyclopyrachlor at 50.0%. Proposed use: Weed control of broadleaf weeds and woody plants in terrestrial non-crop areas and unimproved turf sites. Contact: Mindy Ondish, (703) 605-0723, ondish.mindy@epa.gov.

9. File Symbol: 352-TII. Docket Number: EPA-HQ-OPP-2009-0789. Applicant: E. I. du Pont de Nemours and Company, DuPont Crop Protection, Stine-Haskell Research Center, P.O. Box 30, Newark, DE 19714. Product name: DPX-Q2B37 Herbicide. Active ingredient: Herbicide with Aminocyclopyrachlor methyl at 42.1%, Chlorsulfuron at 11.9%, and Sulfometuron at 23.7%. Proposed use: Weed control of broadleaf weeds and grasses in terrestrial non-crop areas. Contact: Mindy Ondish, (703) 605-0723, ondish.mindy@epa.gov.

10. File Symbol: 352-TIO. Docket Number: EPA-HQ-OPP-2009-0789. Applicant: E. I. du Pont de Nemours and Company, DuPont Crop Protection, Stine-Haskell Research Center, P.O. Box 30, Newark, DE 19714. Product name: DPX-Q2B38 Herbicide. Active ingredient: Herbicide with Aminocyclopyrachlor methyl at 28.7%, Imazapyr at 37.3%, and Metsulfuron at 8.6%. Proposed use: Weed control of broadleaf weeds and woody plants in terrestrial non-crop areas. Contact: Mindy Ondish, (703) 605-0723, ondish.mindy@epa.gov.

11. File Symbol: 352-TON. Docket Number: EPA-HQ-OPP-2009-0789. Applicant: E. I. du Pont de Nemours and Company, DuPont Crop Protection, Stine-Haskell Research Center, P.O. Box 30, Newark, DE 19714. Product name: DPX-Q2B39 Herbicide. Active ingredient: Herbicide with Aminocyclopyrachlor methyl at 57.1% and Metsulfuron at 11.2%. Proposed use: Weed control of broadleaf weeds and woody plants in terrestrial non-crop areas. Contact: Mindy Ondish, (703) 605-0723, ondish.mindy@epa.gov.

12. File Symbol: 352-TOR. Docket Number: EPA-HQ-OPP-2009-0789. Applicant: E. I. du Pont de Nemours and Company, DuPont Crop Protection, Stine-Haskell Research Center, P.O. Box 30, Newark, DE 19714. Product name: DPX-QKJ02 Herbicide. Active ingredient: Herbicide with Aminocyclopyrachlor methyl at 57.1% and Chlorsulfuron at 21.4%. Proposed use: Broadleaf weed control in terrestrial non-crop areas and unimproved turf sites. Contact: Mindy Ondish, (703) 605-0723, ondish.mindy@epa.gov.

13. File Symbol: 352-TOE. Docket Number: EPA-HQ-OPP-2009-0789. Applicant: E.I. du Pont de Nemours and Company, DuPont Crop Protection, Stine-Haskell Research Center, P.O. Box 30, Newark, DE 19714. Product name: DPX-KJM44 80XP Herbicide. Active ingredient: Herbicide with Aminocyclopyrachlor methyl at 80.0%. Proposed use: Selective broadleaf weed control in cool and warm season turfgrasses. Contact: Mindy Ondish, (703) 605-0723, ondish.mindy@epa.gov.

14. File Symbol: 352-TOG. Docket Number: EPA-HQ-OPP-2009-0789. Applicant: E. I. du Pont de Nemours and Company, DuPont Crop Protection, Stine-Haskell Research Center, P.O. Box 30, Newark, DE 19714. Product name: DPX-MAT28 240SL Turf Herbicide. Active ingredient: Herbicide with Aminocyclopyrachlor, potassium salt at 24.0%. Proposed use: Selective broadleaf weed control in cool and warm season turfgrasses. Contact: Mindy Ondish, (703) 605-0723, ondish.mindy@epa.gov.

15. File Symbol: 352-TOU. Docket Number: EPA-HQ-OPP-2009-0789. Applicant: E. I. du Pont de Nemours and Company, DuPont Crop Protection, Stine-Haskell Research Center, P.O. Box 30, Newark, DE 19714. Product name: DPX-MAT28 50SG Turf Herbicide. Active ingredient: Herbicide with Aminocyclopyrachlor at 50.0%. Proposed use: Selective broadleaf weed control in cool and warm season turfgrasses. Contact: Mindy Ondish, (703) 605-0723, ondish.mindy@epa.gov.

16. File Symbol: 352-TOL. Docket Number: EPA-HQ-OPP-2009-0789. Applicant: E. I. du Pont de Nemours and Company, DuPont Crop Protection, Stine-Haskell Research Center, P.O. Box 30, Newark, DE 19714. Product name: DPX-KJM44 10% Manufacturing Concentrate. Active ingredient: Herbicide with Aminocyclopyrachlor methyl at 10.0%. Proposed use: For formulation into an end-use herbicide for use in terrestrial non-crop areas and outdoor domestic landscape turf grass. Contact: Mindy Ondish, (703) 605-0723, ondish.mindy@epa.gov.

17. File Symbol: 352-TOA. Docket Number: EPA-HQ-OPP-2009-0789. Applicant: E. I. du Pont de Nemours and Company, DuPont Crop Protection, Stine-Haskell Research Center, P.O. Box 30, Newark, DE 19714. Product name: DPX-MAT28 10% Manufacturing Concentrate. Active ingredient: Herbicide with Aminocyclopyrachlor at 10.0%. Proposed use: For formulation into an end-use herbicide for use in terrestrial non-crop areas and outdoor domestic landscape turf grass. Contact: Mindy Ondish, (703) 605-0723, ondish.mindy@epa.gov.

18. File Symbol: 352-TOT. Docket Number: EPA-HQ-OPP-2009-0789. Applicant: E. I. du Pont de Nemours and Company, DuPont Crop Protection, Stine-Haskell Research Center, P.O. Box 30, Newark, DE 19714. Product name: DPX-KJM44 0.064G Turf Herbicide + Fertilizer. Active ingredient: Herbicide with Aminocyclopyrachlor methyl at 0.064%. Proposed use: Selective broadleaf weed control in cool and warm season turfgrasses. Contact: Mindy Ondish, (703) 605-0723, ondish.mindy@epa.gov.

19. File Symbol: 352-TOI. Docket Number: EPA-HQ-OPP-2009-0789. Applicant: E. I. du Pont de Nemours and Company, DuPont Crop Protection, Stine-Haskell Research Center, P.O. Box 30, Newark, DE 19714. Product name: DPX-KJM44 0.053G Turf Herbicide + Fertilizer. Active ingredient: Herbicide with Aminocyclopyrachlor methyl at 0.053%. Proposed use: Selective broadleaf weed control in cool and warm season turfgrasses. Contact: Mindy Ondish, (703) 605-0723, ondish.mindy@epa.gov.

20. File Symbol: 352-TOO. Docket Number: EPA-HQ-OPP-2009-0789. Applicant: E. I. du Pont de Nemours and Company, DuPont Crop Protection, Stine-Haskell Research Center, P.O. Box 30, Newark, DE 19714. Product name: DPX-KJM44 0.032G Turf Herbicide + Fertilizer. Active ingredient: Herbicide with Aminocyclopyrachlor methyl at 0.032%. Proposed use: Selective broadleaf weed control in cool and warm season turfgrasses. Contact: Mindy Ondish, (703) 605-0723, ondish.mindy@epa.gov.

21. File Symbol: 352-INN. Docket Number: EPA-HQ-OPP-2009-0789. Applicant: E. I. du Pont de Nemours and Company, DuPont Crop Protection, Stine-Haskell Research Center, P.O. Box 30, Newark, DE 19714. Product name: DPX-KJM44 0.073G Lawn Herbicide + Fertilizer. Active ingredient: Herbicide with Aminocyclopyrachlor methyl at 0.073%. Proposed use: Broadleaf weed control in residential lawns. Contact: Mindy Ondish, (703) 605-0723, ondish.mindy@epa.gov.

22. File Symbol: 352-INR. Docket Number: EPA-HQ-OPP-2009-0789. Applicant: E. I. du Pont de Nemours and Company, DuPont Crop Protection, Stine-Haskell Research Center, P.O. Box 30, Newark, DE 19714. Product name: DPX-KJM44 0.065G Lawn Herbicide + Fertilizer. Active ingredient: Herbicide with Aminocyclopyrachlor methyl at 0.065%. Proposed use: Broadleaf weed control in residential lawns. Contact: Mindy Ondish, (703) 605-0723, ondish.mindy@epa.gov.

23. File Symbol: 352-INE. Docket Number: EPA-HQ-OPP-2009-0789. Applicant: E. I. du Pont de Nemours and Company, DuPont Crop Protection, Stine-Haskell Research Center, P.O. Box 30, Newark, DE 19714. Product name: DPX-KJM44 0.059G Lawn Herbicide + Fertilizer. Active ingredient: Herbicide with Aminocyclopyrachlor methyl at 0.059%. Proposed use: Broadleaf weed control in residential lawns. Contact: Mindy Ondish, (703) 605-0723, ondish.mindy@epa.gov.

24. File Symbol: 352-ING. Docket Number: EPA-HQ-OPP-2009-0789. Applicant: E. I. du Pont de Nemours and Company, DuPont Crop Protection, Stine-Haskell Research Center, P.O. Box 30, Newark, DE 19714. Product name: DPX-KJM44 0.053G Lawn Herbicide + Fertilizer. Active ingredient: Herbicide with Aminocyclopyrachlor methyl at 0.053%. Proposed use: Broadleaf weed control in residential lawns. Contact: Mindy Ondish, (703) 605-0723, ondish.mindy@epa.gov.

25. File Symbol: 352-INU. Docket Number: EPA-HQ-OPP-2009-0789. Applicant: E. I. du Pont de Nemours and Company, DuPont Crop Protection, Stine-Haskell Research Center, P.O. Box 30, Newark, DE 19714. Product name: DPX-KJM44 0.049G Lawn Herbicide + Fertilizer. Active ingredient: Herbicide with Aminocyclopyrachlor methyl at 0.049%. Proposed use: Broadleaf weed control in residential lawns. Contact: Mindy Ondish, (703) 605-0723, ondish.mindy@epa.gov.

26. File Symbol: 352-INL. Docket Number: EPA-HQ-OPP-2009-0789. Applicant: E. I. du Pont de Nemours and Company, DuPont Crop Protection, Stine-Haskell Research Center, P.O. Box 30, Newark, DE 19714. Product name: DPX-KJM44 0.039G Lawn Herbicide + Fertilizer. Active ingredient: Herbicide with Aminocyclopyrachlor methyl at 0.039%. Proposed use: Broadleaf weed control in residential lawns. Contact: Mindy Ondish, (703) 605-0723, ondish.mindy@epa.gov.

27. File Symbol: 352-INA. Docket Number: EPA-HQ-OPP-2009-0789. Applicant: E. I. du Pont de Nemours and Company, DuPont Crop Protection, Stine-Haskell Research Center, P.O. Box 30, Newark, DE 19714. Product name: DPX-KJM44 0.037G Lawn Herbicide + Fertilizer. Active ingredient: Herbicide with Aminocyclopyrachlor methyl at 0.037%. Proposed use: Broadleaf weed control in residential lawns. Contact: Mindy Ondish, (703) 605-0723, ondish.mindy@epa.gov.

28. File Symbol: 352-INT. Docket Number: EPA-HQ-OPP-2009-0789. Applicant: E. I. du Pont de Nemours and Company, DuPont Crop Protection, Stine-Haskell Research Center, P.O. Box 30, Newark, DE 19714. Product name: DPX-KJM44 0.033G Lawn Herbicide + Fertilizer. Active ingredient: Herbicide with Aminocyclopyrachlor methyl at 0.033%. Proposed use: Broadleaf weed control in residential lawns. Contact: Mindy Ondish, (703) 605-0723, ondish.mindy@epa.gov.

29. File Symbol: 352-INI. Docket Number: EPA-HQ-OPP-2009-0789. Applicant: E. I. du Pont de Nemours and Company, DuPont Crop Protection, Stine-Haskell Research Center, P.O. Box 30, Newark, DE 19714. Product name: DPX-KJM44 0.03G Lawn Herbicide + Fertilizer. Active ingredient: Herbicide with Aminocyclopyrachlor methyl at 0.03%. Proposed use: Broadleaf weed control in residential lawns. Contact: Mindy Ondish, (703) 605-0723, ondish.mindy@epa.gov.

30. File Symbol: 352-INO. Docket Number: EPA-HQ-OPP-2009-0789. Applicant: E. I. du Pont de Nemours and Company, DuPont Crop Protection, Stine-Haskell Research Center, P.O. Box 30, Newark, DE 19714. Product name: DPX-KJM44 0.027G Lawn Herbicide + Fertilizer. Active ingredient: Herbicide with Aminocyclopyrachlor methyl at 0.027%. Proposed use: Broadleaf weed control in residential lawns. Contact: Mindy Ondish, (703) 605-0723, ondish.mindy@epa.gov.

31. File Symbol: 352-IRN. Docket Number: EPA-HQ-OPP-2009-0789. Applicant: E. I. du Pont de Nemours and Company, DuPont Crop Protection, Stine-Haskell Research Center, P.O. Box 30, Newark, DE 19714. Product name: DPX-KJM44 0.024G Lawn Herbicide + Fertilizer. Active ingredient: Herbicide with Aminocyclopyrachlor methyl at 0.024%. Proposed use: Broadleaf weed control in residential lawns. Contact: Mindy Ondish, (703) 605-0723, ondish.mindy@epa.gov.

32. File Symbol: 352-IRR. Docket Number: EPA-HQ-OPP-2009-0789. Applicant: E. I. du Pont de Nemours and Company, DuPont Crop Protection, Stine-Haskell Research Center, P.O. Box 30, Newark, DE 19714. Product name: DPX-KJM44 0.02G Lawn Herbicide + Fertilizer. Active ingredient: Herbicide with Aminocyclopyrachlor methyl at 0.02%. Proposed use: Broadleaf weed control in residential lawns. Contact: Mindy Ondish, (703) 605-0723, ondish.mindy@epa.gov.

33. File Symbol: 352-IRE. Docket Number: EPA-HQ-OPP-2009-0789. Applicant: E. I. du Pont de Nemours and Company, DuPont Crop Protection, Stine-Haskell Research Center, P.O. Box 30, Newark, DE 19714. Product name: DPX-MAT28 0.06G Turf Herbicide + Fertilizer. Active ingredient: Herbicide with Aminocyclopyrachlor at 0.06%. Proposed use: Selective broadleaf weed control in cool and warm season turfgrasses. Contact: Mindy Ondish, (703) 605-0723, ondish.mindy@epa.gov.

34. File Symbol: 352-RG. Docket Number: EPA-HQ-OPP-2009-0789. Applicant: E. I. du Pont de Nemours and Company, DuPont Crop Protection, Stine-Haskell Research Center, P.O. Box 30, Newark, DE 19714. Product name: DPX-MAT28 0.05G Turf Herbicide + Fertilizer. Active ingredient: Herbicide with Aminocyclopyrachlor at 0.05%. Proposed use: Selective broadleaf weed control in cool and warm season turfgrasses. Contact: Mindy Ondish, (703) 605-0723, ondish.mindy@epa.gov.

35. File Symbol: 352-IRU. Docket Number: EPA-HQ-OPP-2009-0789. Applicant: E. I. du Pont de Nemours and Company, DuPont Crop Protection, Stine-Haskell Research Center, P.O. Box 30, Newark, DE 19714. Product name: DPX-MAT28 0.03G Turf Herbicide + Fertilizer. Active ingredient: Herbicide with Aminocyclopyrachlor at 0.03%. Proposed use: Selective broadleaf weed control in cool and warm season turfgrasses. Contact: Mindy Ondish, (703) 605-0723, ondish.mindy@epa.gov.

36. File Symbol: 352-IRL. Docket Number: EPA-HQ-OPP-2009-0789. Applicant: E. I. du Pont de Nemours and Company, DuPont Crop Protection, Stine-Haskell Research Center, P.O. Box 30, Newark, DE 19714. Product name: DPX-MAT28 0.068G Lawn Herbicide + Fertilizer. Active ingredient: Herbicide with Aminocyclopyrachlor at 0.068%. Proposed use: Broadleaf weed control in residential lawns. Contact: Mindy Ondish, (703) 605-0723, ondish.mindy@epa.gov.

37. File Symbol: 432-RUOL. Docket Number: EPA-HQ-OPP-2009-0636. Applicant: Bayer Environmental Science, A Business Group of Bayer CropScience, LP, P.O. Box 12014, 2 T.W. Alexander Drive, Research Triangle Park, NC 27709. Product name: BCS-AA10717 0.0142% Plus Turf Fertilizer Herbicide. Active ingredient: Herbicide with Indaziflam at 0.0142%. Proposed use: Pre-emergent herbicide on fertilizer for the control of annual grasses, annual sedges, and broadleaf weeds in turf. Contact: Erik Kraft, (703) 308-9358, kraft.erik@epa.gov.

38. File Symbol: 432-RUOA. Docket Number: EPA-HQ-OPP-2009-0636. Applicant: Bayer Environmental Science, A Business Group of Bayer CropScience, LP, P.O. Box 12014, 2 T.W. Alexander Drive, Research Triangle Park, NC 27709. Product name: BCS-AA10717 0.0213% Plus Turf Fertilizer Herbicide. Active ingredient: Herbicide with Indaziflam at 0.0213%. Proposed use: Pre-emergent herbicide on fertilizer for the control of annual grasses, annual sedges, and broadleaf weeds in turf. Contact: Erik Kraft, (703) 308-9358, kraft.erik@epa.gov.

39. File Symbol: 432-RUOT. Docket Number: EPA-HQ-OPP-2009-0636. Applicant: Bayer Environmental Science, A Business Group of Bayer CropScience, LP, P.O. Box 12014, 2 T.W. Alexander Drive, Research Triangle Park, NC 27709. Product name: BCS-AA10717 0.0284% Plus Turf Fertilizer Herbicide. Active ingredient: Herbicide with Indaziflam at 0.0284%. Proposed use: Pre-emergent herbicide on fertilizer for the control of annual grasses, annual sedges, and broadleaf weeds in turf. Contact: Erik Kraft, (703) 308-9358, kraft.erik@epa.gov.

40. File Symbol: 432-RUOI. Docket Number: EPA-HQ-OPP-2009-0636. Applicant: Bayer Environmental Science, A Business Group of Bayer CropScience, LP, P.O. Box 12014, 2 T.W. Alexander Drive, Research Triangle Park, NC 27709. Product name: BCS-AA10717 2% MUP Herbicide. Active ingredient: Herbicide with Indaziflam at 2.0%. Proposed use: For formulation into herbicide products intended for control of weeds in turfgrass, ornamentals, nurseries, Christmas trees, landscape plantings, forestry, and hardscapes in non-crop areas. Contact: Erik Kraft, (703) 308-9358, kraft.erik@epa.gov.

41. File Symbol: 432-RUOO. Docket Number: EPA-HQ-OPP-2009-0636. Applicant: Bayer Environmental Science, A Business Group of Bayer CropScience, LP, P.O. Box 12014, 2 T.W. Alexander Drive, Research Triangle Park, NC 27709. Product name: BCS-AA10717 20WSP Herbicide. Active ingredient: Herbicide with Indaziflam at 20.0%. Proposed use: Pre-emergent herbicide for the control of annual grasses, annual sedges, and broadleaf weeds in turfgrass, ornamentals, nurseries, Christmas trees, landscape plantings, forestry, and hardscapes in non-crop areas. Contact: Erik Kraft, (703) 308-9358, kraft.erik@epa.gov.

42. File Symbol: 432-RLNR. Docket Number: EPA-HQ-OPP-2009-0636. Applicant: Bayer Environmental Science, A Business Group of Bayer CropScience, LP, P.O. Box 12014, 2 T.W. Alexander Drive, Research Triangle Park, NC 27709. Product name: BCS-AA10717 Herbicide Technical. Active ingredient: Herbicide with Indaziflam at 95.8%. Proposed use: For formulation into herbicide products intended for the control of weeds in turfgrass, ornamentals, nurseries, Christmas trees, landscape plantings, forestry, hardscapes in non-crop areas, citrus fruits, pome fruits, stone fruits, grapes, tree nuts, pistachios, and olives. Contact: Bethany Benbow, (703) 347-8072, benbow.bethany@epa.gov.

43. File Symbol: 432-RLNI. Docket Number: EPA-HQ-OPP-2009-0636. Applicant: Bayer Environmental Science, A Business Group of Bayer CropScience, LP, P.O. Box 12014, 2 T.W. Alexander Drive, Research Triangle Park, NC 27709. Product name: Esplanade 200 SC Herbicide. Active ingredient: Herbicide with Indaziflam at 19.05%. Proposed use: Pre-emergent herbicide for the control of annual grasses and broadleaf weeds in non-crop areas, railroad and rail yards, managed roadsides, established ornamental and perennial plantings, fence rows, utilities, hardscapes, and other industrial, municipal, and government sites. Contact: Bethany Benbow, (703) 347-8072, benbow.bethany@epa.gov.

44. File Symbol: 432-RLNO. Docket Number: EPA-HQ-OPP-2009-0636. Applicant: Bayer Environmental Science, A Business Group of Bayer CropScience, LP, P.O. Box 12014, 2 T.W. Alexander Drive, Research Triangle Park, NC 27709. Product name: Esplanade F Herbicide. Active ingredient: Herbicide with Indaziflam at 19.05%. Proposed use: Pre-emergent herbicide for the control of annual grasses and broadleaf weeds in forest areas. Contact: Bethany Benbow, (703) 347-8072, benbow.bethany@epa.gov.

45. File Symbol: 59639-RLU. Docket Number: EPA-HQ-OPP-2009-0205. Applicant: Valent U.S.A. Corporation, P.O. Box 8025, Walnut Creek, CA 94596-8025. Product name: Imazosulfuron Technical. Active ingredient: Herbicide with Imazosulfuron at 99.5%. Proposed use: For formulation into herbicide products intended for use in/on bare ground non-crop areas, conifers, deciduous trees, non-bearing fruit and nut trees, ornamentals, turfgrass, peppers (bell and non-bell), tomatoes, and rice. Contact: Bethany Benbow, (703) 347-8072, benbow.bethany@epa.gov.

46. File Symbol: 59639-RAA. Docket Number: EPA-HQ-OPP-2009-0205. Applicant: Valent U.S.A. Corporation, P.O. Box 8025, Walnut Creek, CA 94596-8025. Product name: V-10142 AG Herbicide. Active ingredient: Herbicide with Imazosulfuron at 75.0%. Proposed use: A selective herbicide for the control and/or suppression of certain weeds in tomatoes, peppers (bell and non-bell), and rice. Contact: Bethany Benbow, (703) 347-8072, benbow.bethany@epa.gov.

47. File Symbol: 59639-RLL. Docket Number: EPA-HQ-OPP-2009-0205. Applicant: Valent U.S.A. Corporation, P.O. Box 8025, Walnut Creek, CA 94596-8025. Product name: V-10142 Herbicide. Active ingredient: Herbicide with Imazosulfuron at 75.0%. Proposed use: A selective herbicide for the control of nutsedge and other weeds in established turfgrass, around established ornamentals and conifers, and to maintain bare ground non-crop areas. Contact: Erik Kraft, (703) 308-9358, kraft.erik@epa.gov.

48. File Symbol: 63588-OR. Docket Number: EPA-HQ-OPP-2009-0717. Applicant: K-I Chemical U.S.A., Inc. c/o Landis International, Inc., P.O. Box 5126, Valdosta, GA 31603-5126. Product name: Pyroxasulfone Technical. Active ingredient: Herbicide with Pyroxasulfone at 99.2%. Proposed use: For formulation only into registered end-use herbicide products. Contact: Michael Walsh, (703) 308-2972, walsh.michael@epa.gov.

49. File Symbol: 63588-OE. Docket Number: EPA-HQ-OPP-2009-0717. Applicant: K-I Chemical U.S.A., Inc. c/o Landis International, Inc., P.O. Box 5126, Valdosta, GA 31603-5126. Product name: Pyroxasulfone 85 WG. Active ingredient: Herbicide with Pyroxasulfone at 85.0%. Proposed use: Herbicide for the control of weeds in field corn, popcorn, sweet corn, soybeans, and winter wheat. Contact: Michael Walsh, (703) 308-2972, walsh.michael@epa.gov.

50. File Symbol: 63588-OG. Docket Number: EPA-HQ-OPP-2009-0717. Applicant: K-I Chemical U.S.A., Inc. c/o Landis International, Inc., P.O. Box 5126, Valdosta, GA 31603-5126. Product name: V-10233 Herbicide. Active ingredient: Herbicide with Pyroxasulfone at 42.5% and Flumioxazin at 33.5%. Proposed use: Herbicide for the control and/or suppression of certain weeds in field corn, soybeans, fallow land, non-crop areas around farms, orchards, vineyards, and to maintain bare ground in non-crop areas. Contact: Michael Walsh, (703) 308-2972, walsh.michael@epa.gov.

51. File Symbol: 72155-IO. Docket Number: EPA-HQ-OPP-2009-0636. Applicant: Bayer Advanced, 2 T.W. Alexander Drive, Research Triangle Park, NC 27709. Product name: Lawn 3FL Herbicide Concentrate/Ready-to-Spray. Active ingredient: Herbicide with Indaziflam at 0.25%, 2,4-D at 4.89%, Dicamba at 0.54%, and MCPP-p at 1.15%. Proposed use: Herbicide for the control of annual grasses, annual sedges, and broadleaf weeds in turf. Contact: Erik Kraft, (703) 308-9358, kraft.erik@epa.gov.

52. File Symbol: 72155-ON. Docket Number: EPA-HQ-OPP-2009-0636. Applicant: Bayer Advanced, 2 T.W. Alexander Drive, Research Triangle Park, NC 27709. Product name: Lawn 3FL Herbicide Ready-to-Use. Active ingredient: Herbicide with Indaziflam at 0.0031%, 2,4-D at 0.309%, Dicamba at 0.034%, and MCPP-p at 0.073%. Proposed use: Herbicide for the control of annual grasses, annual sedges, and broadleaf weeds in turf. Contact: Erik Kraft, (703) 308-9358, kraft.erik@epa.gov.

53. File Symbol: 72155-OR. Docket Number: EPA-HQ-OPP-2009-0636. Applicant: Bayer Advanced, 2 T.W. Alexander Drive, Research Triangle Park, NC 27709. Product name: Lawn 3FL Herbicide Granule. Active ingredient: Herbicide with Indaziflam at 0.05%, Dicamba at 0.11%, and Penoxsulam at 0.06%. Proposed use: Herbicide for the control of annual grasses, annual sedges, and broadleaf weeds in turf. Contact: Erik Kraft, (703) 308-9358, kraft.erik@epa.gov.

54. File Symbol: 72155-OR. Docket Number: EPA-HQ-OPP-2009-0636. Applicant: Bayer Advanced, 2 T.W. Alexander Drive, Research Triangle Park, NC 27709. Product name: Lawn 3FL Herbicide Granule. Active ingredient: Herbicide with Indaziflam at 0.05%, Dicamba at 0.11%, and Penoxsulam at 0.06%. Proposed use: Herbicide for the control of annual grasses, annual sedges, and broadleaf weeds in turf. Contact: Erik Kraft, (703) 308-9358, kraft.erik@epa.gov.

55. File Symbol: 86833-R. Docket Number: EPA-HQ-OPP-2009-0800. Applicant: The Humane Society of the United States, 2100 L St., NW, Washington, DC 20037. Poduct name: ZonaStat-H. Active ingredient: Contraceptive with Porcine zona pellucida at 0.1%. Proposed use: Contraceptive for the use in limiting populations of wild and feral horses and burros. Contact: Jennifer Gaines, (703) 305-5967, gaines.jennifer@epa.gov.

List of Subjects

Environmental protection, Pesticides and pest.

Dated: January 19, 2010
Lois Rossi,
Director, Registration Division, Office of Pesticide Programs.

[FR Doc. 2010-1579 Filed 1-26-10; 8:45 am]

BILLING CODE 6560-50-S